U.S. DEPARTMENT OF JUSTICE

Antitrust Division

Notice Pursuant to the National Cooperative Research and Production Act of 1993—Auto Body Consortium Inc.: Near Zero Stamping

Notice is hereby given that, on January 16, 2001, pursuant to Section 6(a) of the National Cooperative Research and Production Act of 1993, 15 U.S.C. 4301 et seq. ( “the Act” ), Auto Body Consortium, Inc. has filed written notifications simultaneously with the Attorney General and the Federal Trade Commission disclosing changes in its membership status. The notifications were filed for the purpose of extending the Act's provisions limiting the recovery of antitrust plaintiffs to actual damages under specified circumstances. Specifically, Troy Design and Manufacturing, Redford, MI became a 100%-owned subsidiary of Ford Motor Company, Dearborn, MI, though it has retained its name and continues to operate as a stand-alone company. Also, Data Instruments Inc., Acton, MA merged with Honeywell Sensing and Control to become Honeywell Data Instruments, Acton, MA.

No other changes have been made in either the membership or planned activity of the group research project. Membership in this group research project remains open, and Auto Body Consortium, Inc. intends to file additional written notification disclosing all changes in membership.

On September 14, 1995, Auto Body Consortium, Inc. filed its original notification pursuant to Section 6(a) of the Act. The Department of Justice published a notice in the Federal Register pursuant to Section 6(b) of the Act on January 31, 1996 (61 FR 3463).

The last notification was file with the Department on April 20, 1999. A notice was published in the Federal Register pursuant to Section 6(b) of the Act on December 14, 1999 (64 FR 69797).

Constance K. Robinson,
Director of Operations, Antitrust Division.

[FR Doc. 01-5071 Filed 3-1-01; 8:45 am]

BILLING CODE 4410-11-M